DEPARTMENT OF ENERGY

Federal Energy Regulatory Commission

[Project No. 15296-000]

Tivis Branch Hydro, LLC; Notice of Preliminary Permit Application Accepted for Filing and Soliciting Comments, Motions To Intervene, and Competing Applications

On January 3, 2023, Tivis Branch Hydro, LLC, filed an application for a preliminary permit, pursuant to section 4(f) of the Federal Power Act (FPA), proposing to study the feasibility of the Flannagan Hydroelectric Project to be located at the U.S. Army Corps of Engineers' (Corps) Huntington District John W. Flannagan Dam on the Pound River in Dickenson County, Virginia. The sole purpose of a preliminary permit, if issued, is to grant the permit holder priority to file a license application during the permit term. A preliminary permit does not authorize the permit holder to perform any land-disturbing activities or otherwise enter upon lands or waters owned by others without the owners' express permission.

The proposed project would consist of the following: (1) new four 0.36-megawatt (MW) turbine-generator units to be placed inside the Corps' intake tower with a total installed capacity of 1.44 MW; (2) a new 40-foot-long, 40-foot-wide operating space inside the Corps' intake tower; (3) a new 300-foot-long conduit attached to the access bridge (which provides access to the Corps' intake tower); (4) a new 15-foot-long, 15-foot-wide substation pad including a 4.16/12.47-kilovolt (kV) step-up transformer; (5) a new 300-foot-long, 4.16-kV generator lead to the substation pad; (6) a 30-foot-long, 12.47-kV transmission line connecting the substation pad to the existing 12.47-kV Appalachian Power Company's distribution line; and (7) appurtenant facilities. The proposed project would have an annual generation of 8,000 megawatt-hours.

Applicant Contact: Ryan A. Cook, Tivis Branch Hydro, LLC, 5 Dover Street, Suite 102, New Bedford, MA 02740; phone: (508) 436-4100.

FERC Contact: Woohee Choi; email: woohee.choi@ferc.gov; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15296-000.

More information about this project, including a copy of the application, can be viewed or printed on the “eLibrary” link of the Commission's website at http://www.ferc.gov/docs-filing/elibrary.asp. Enter the docket number (P-15296) in the docket number field to access the document. For assistance, contact FERC Online Support.

Dated: May 10, 2023.
Kimberly D. Bose,
Secretary.

[FR Doc. 2023-10382 Filed 5-15-23; 8:45 am]

BILLING CODE 6717-01-P